DEPARTMENT OF THE INTERIOR

Fish and Wildlife Service

50 CFR Part 17

RIN 1018-AF20

Endangered and Threatened Wildlife and Plants; Notice of Public Informational Meetings and Public Hearings for the Proposal To Reclassify and Remove the Gray Wolf from the List of Endangered and Threatened Species and To Establish Three Special Regulations for Threatened Gray Wolves

AGENCY: Fish and Wildlife Service, Interior.

ACTION: Notice of public informational meetings and public hearings.

SUMMARY: The U.S. Fish and Wildlife Service (Service) announces the locations and times of public informational meetings that have been scheduled to provide information on the proposal to reclassify and delist the gray wolf and establish special regulations for threatened gray wolves. We are also announcing the locations and times of public hearings scheduled to receive verbal public comments on the proposal.

DATES: See SUPPLEMENTARY INFORMATION.

ADDRESSES: See SUPPLEMENTARY INFORMATION.

FOR FURTHER INFORMATION CONTACT: Direct all questions or requests for additional information to us by using the Gray Wolf Phone Line: 612-713-7337, facsimile: 612-713-5292, electronic mail: GRAYWOLFMAIL@FWS.GOV; the World Wide Web: HTTP://MIDWEST.FSW.GOV/WOLF; or write to: Gray Wolf Questions, U.S. Fish and Wildlife Service, Federal Building, 1 Federal Drive, Fort Snelling, Minnesota 55111-4056.

SUPPLEMENTARY INFORMATION: We will hold public informational meetings at the following locations in the Midwest. All meetings will use an open house format, including a slide presentation beginning every half hour.

St. Paul, Minnesota, on August 7, 2000, from 4:00 to 9:00 p.m. in the Upper Lobby of the Earl Brown Center, 1890 Buford Avenue, on the University of Minnesota St. Paul Campus.

Grand Rapids, Minnesota, on August 8, 2000, from 4:00 to 9:00 p.m. at the Sawmill Inn, 2301 S. Pokegama (State Route 169).

Black River Falls, Wisconsin, on August 15, 2000, from 4:30 to 9:30 p.m. at the Lunda Theater in the Black River Falls Middle School (behind Black River Falls High School), 1202 Pierce Street.

Madison, Wisconsin, on August 16, 2000, from 4:30 to 9:30 p.m. at Mitby auditorium in the Madison Area Technical College (near Madison Airport), 3550 Anderson Street.

Ashland, Wisconsin, on August 17, 2000, from 4:30 to 9:30 p.m. at the Northern Great Lakes Center, 29270 County Highway G (three miles west of Ashland).

Watersmeet, Michigan, on August 28, 2000, from 2 to 4 p.m. and 6 to 9 p.m. at the Ottawa National Forest Visitor Center, U.S. 2 and Highway 45.

Escanaba, Michigan, on August 29, 2000, from 2 to 4 p.m. and 6 to 9 p.m. at Bay de Noc Community College, Learning Resources Center, 2001 N. Lincoln Road.

Sault Ste. Marie, Michigan, on August 30, 2000, from 2 to 4 p.m. and 6 to 9 p.m. at the Cisler Student and Conference Center, Lake Superior State University, 650 W. Easterday Avenue.

East Lansing, Michigan, on August 31, 2000, from 2 to 4 p.m. and 6 to 9 p.m. at the Jack Breslin Student Events Center, Michigan State University, 1 Birch Road.

We will hold public informational meetings at the following locations in the Western states. All meetings will be held from 1:00 to 3:00 p.m. and from 6:00 to 8:00 p.m.

Spokane, Washington, on August 15, 2000, at the West Coast Grand Hotel (formerly Cavanaughs Inn at the Park), 303 West North River Drive.

Everett, Washington, on August 17, 2000, at the Holiday Inn and Conference Center, 101 128th Street SE.

Idaho Falls, Idaho, on August 22, 2000, at the West Coast Idaho Falls Hotel (formerly Cavanaughs on the Falls), 475 River Parkway.

Boise, Idaho, on August 24, 2000, at the Grove Hotel, 245 South Capitol Blvd.

Portland, Oregon, on August 29, 2000, at the Shilo Inn Portland Airport, 11707 NE Airport Way.

LaGrande, Oregon, on August 31, 2000, at the Blue Mountain Conference Center, 404 12th Street.

We will hold public hearings at the following locations in the Midwest.

Madison, Wisconsin, on October 10, 2000, from 6:00 to 9:00 p.m. at Mitby Auditorium in the Madison Area Technical College (near Madison Airport), 3550 Anderson Street.

Duluth, Minnesota, on October 18, 2000, from 6:00 pm to 9:00 pm in room 175 of the Life Sciences Building, Oakland Avenue, on the University of Minnesota Duluth Campus.

East Lansing, Michigan, on October 16, 2000, from 6 to 9 p.m. at the Communication Arts and Sciences Building, Room 147, (on the corner of) Red Cedar Road and Wilson Road, Michigan State University.

Marquette, Michigan, on October 17, 2000, from 6 to 9 p.m. at the Holiday Inn, 1951 U.S. 41 West.

We will hold public hearings at the following locations in the Western states. All hearings will be held from 1:00 to 3:00 p.m. and from 6:00 to 8:00 p.m.

Spokane, Washington, on October 17, 2000, at the West Coast Grand Hotel (formerly Cavanaughs Inn at the Park), 303 West North River Drive.

Everett, Washington, on October 19, 2000, at the Holiday Inn and Conference Center, 101 128th Street SE.

Portland, Oregon, on October 24, 2000, at the Shilo Inn Portland Airport, 11707 NE Airport Way.

LaGrande, Oregon, on October 26, 2000, the Blue Mountain Conference Center, 404 12th Street.

Boise, Idaho, on October 31, 2000, at the Grove Hotel, 245 South Capitol Blvd.

Idaho Falls, Idaho, on November 2, 2000, at the West Coast Idaho Falls Hotel (formerly Cavanaughs on the Falls), 475 River Parkway.

We will hold a combined public informational meeting and public hearing at the following location in the New England states. The public informational meeting will be held from 6:30 to 7:30 p.m. and the public hearing will be held from 7:30 to 9:30 p.m.

Orono, Maine, on October 12, 2000, at the Best Western Black Bear Inn and Conference Center, 4 Godfrey Boulevard.

Background

On July 13, 2000, we published a proposed regulation (65 FR 43450) to reclassify and remove the gray wolf from the list of Endangered and Threatened Wildlife and Plants. The proposal also includes three special regulations for those distinct population segments of gray wolves that would become threatened. This proposal would affect all of the conterminous 48 states except Minnesota. Due to the complexity and wide geographic scope of the proposal, we are scheduling public informational meetings and public hearings at a number of locations. If we schedule additional public informational meetings or public hearings, we will publicize their times and locations in subsequent notices.

The purpose of the public informational meetings is to provide additional opportunities for the public to gain information and ask questions about the proposal. These informational sessions should assist interested parties in preparing substantive comments on the proposal.

The public hearings will be the only method for comments and data to be presented verbally for entry into the public record of this rulemaking and for our consideration during our final decision. Comments and data can also be submitted in writing or electronically, as described in the July 13, 2000, proposal, and at http://midwest.fws.gov/wolf.

Author

The author of this notice is Ronald L. Refsnider, U.S. Fish and Wildlife Service, Fort Snelling, Minnesota.

Authority: The authority for this notice is the Endangered Species Act of 1973 (16 U.S.C. 1531 et seq.).

Dated: July 19, 2000.
Charles M. Wooley,
Assistant Regional Director, Ecological Services, Region 3, Fort Snelling, Minnesota.

[FR Doc. 00-18912 Filed 7-25-00; 8:45 am]

BILLING CODE 4310-55-M